ENVIRONMENTAL PROTECTION AGENCY

40 CFR Part 52

[EPA-R06-OAR-2024-0380; FRL-12206-02-R6]

Finding of Failure To Attain by the Attainment Date for the 2010 1-Hour Primary Sulfur Dioxide National Ambient Air Quality Standard; Louisiana; Evangeline Parish Nonattainment Area

AGENCY: Environmental Protection Agency (EPA).

ACTION: Final rule.

SUMMARY: The Environmental Protection Agency (EPA) is making a determination that the Evangeline Parish, Louisiana, sulfur dioxide (SO2) nonattainment area (NAA) failed to attain the 2010 1-hour primary SO2 national ambient air quality standard (2010 SO2 NAAQS) under the Clean Air Act (CAA or the Act) by the applicable statutory attainment date of April 9, 2023. This determination is based upon consideration and review of all relevant and available information for the NAA, including reported emissions records and available modeling data for the area's primary SO2 source, Cabot Corporation's Ville Platte Plant (Cabot).

DATES: This rule is effective on January 15, 2025.

ADDRESSES: EPA established a docket for this action under Docket ID No. EPA-R06-OAR-2024-0380. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Ronald Thomas, SO2 and Regional Haze Section (R6-ARSH), Air & Radiation Division, U.S. Environmental Protection Agency, Region 6, 1201 Elm Street, Suite 500, Dallas, Texas 75270. His direct telephone number is (214) 665-7478. Mr. Thomas can also be reached via electronic mail at Thomas.Ronald@epa.gov.

SUPPLEMENTARY INFORMATION: Throughout this document “we,” “us,” and “our” means the EPA.

I. Background

The background for this action is discussed in detail in our September 4, 2024, proposal (89 FR 71872). In that document, we proposed to determine that the Evangeline Parish SO2 nonattainment area failed to attain the 2010 SO2 NAAQS by the applicable statutory attainment date of April 9, 2023. In summary, our proposed determination was based upon evaluation of SO2 emissions data and prior modeling for the NAA. Specifically, this proposed determination was supported by data showing that emissions have increased when comparing the 2020-2022 period to the modeled emissions at designation. Based on this increase in emissions, there is nothing to suggest that the area is no longer in violation of the NAAQS as demonstrated by the 2017 modeling analysis for the initial designation of the area.

The public comment period for our proposed determination expired on October 4, 2024. The EPA received no comments on our September 4, 2024, proposal. Therefore, we are finalizing our action as proposed.

II. Final Action

The EPA is finalizing the September 4, 2024, proposed finding, and per CAA section 179(c)(1)-(2), the EPA determines that the Evangeline Parish SO2 NAA has not attained the 2010 one-hour SO2 NAAQS of 75 ppb by the applicable statutory attainment date of April 9, 2023.

Publication of this final rule has the following consequences for the State of Louisiana: (1) under CAA section 179(d), the State has up to 12 months from the publication of this notice to submit a revised SIP for the area demonstrating attainment and containing any additional measures that the EPA may reasonably prescribe that can be feasibly implemented in the area in light of technological achievability, costs, and any non-air quality and other air quality-related health and environmental impacts as required; (2) according to CAA section 179(d)(3), such a revised SIP is to achieve attainment of the 2010 SO2 NAAQS as expeditiously as practicable, but no later than 5 years from the date of notice of the area's failure to attain (i.e., 5 years after the EPA publishes a final action in the Federal Register determining that the area failed to attain the 2010 SO2 NAAQS); and (3) in addition to triggering requirements for a new SIP submittal, this final determination triggers the implementation of contingency measures in this NAA adopted under 172(c)(9).

III. Environmental Justice Considerations

Information on Executive Order 12898 (Federal Actions To Address Environmental Justice in Minority Populations and Low-Income Populations, 59 FR 7629, February 16, 1994) and how EPA defines environmental justice (EJ) can be found in the section titled “IV. Statutory and Executive Order Reviews.” EPA provided analysis of environmental justice associated with this action solely for informational purposes, and the results of this analysis were addressed in Section IV of our proposal.

This final rule formalizes EPA's determination that the Evangeline Parish SO2 NAA has failed to attain the 2010 SO2 NAAQS of 75 ppb by the applicable attainment date of April 9, 2023, in accordance with EPA's obligation to make a determination on attainment by the attainment date in section 179(c)(1)-(2) of the CAA. This action provides notice to the public that the area has failed to attain the NAAQS and informs the State of Louisiana of CAA requirements that the State needs to meet.

Information on SO2 and its relationship to negative health impacts can be found at final Federal Register notice titled “Primary National Ambient Air Quality Standard for Sulfur Dioxide” (75 FR 35520, June 22, 2010).¹ We expect that this action will not have a detrimental impact on the population, including communities with EJ concerns, in and near the Evangeline Parish NAA.

¹ See https://www.federalregister.gov/d/2010-13947.

IV. Statutory and Executive Order Reviews

This action finds that an area has failed to attain the NAAQS by the relevant attainment date and does not impose additional or modify existing requirements. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

Executive Order 12898 (Federal Actions to Address Environmental Justice in Minority Populations and Low-Income Populations, 59 FR 7629, February 16, 1994) directs Federal agencies to identify and address “disproportionately high and adverse human health or environmental effects” of their actions on communities with EJ concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

Section IV of the proposal for this action presented our EJ analysis, but we did not consider EJ as a basis for this action. Due to the nature of the action being taken here, this action is not expected to have a detrimental impact on the populations, including communities with EJ concerns, in the Evangeline Parish NAA. Consideration of EJ is not required as part of this action, which finds that the NAA failed to attain the 2010 SO2 NAAQS by the applicable attainment date, and there is no information in the record inconsistent with the stated goal of E.O. 12898 of achieving environmental justice for communities with EJ concerns.

In addition, this final rulemaking, the finding of failure to attain by the attainment date for the Evangeline Parish SO2 NAA, does not have tribal implications as specified by Executive Order 13175 (65 FR 67249, November 9, 2000), because this action is not intended to apply in Indian country located in the State, and the EPA notes that it will not impose substantial direct costs on tribal governments or preempt tribal law.

This action is exempt from the Congressional Review Act because it is a rule of particular applicability. The rule makes factual determinations for an identified entity (the Evangeline Parish area of Louisiana), based on facts and circumstances specific to that entity. The determination of failure to attain the 2010 SO2 NAAQS does not in itself create any new requirements beyond what is mandated by the CAA.

Under section 307(b)(1) of the CAA, petitions for judicial review of this action must be filed in the United States Court of Appeals for the appropriate circuit by February 14, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Pollution, Reporting and recordkeeping requirements, Sulfur oxides.

Dated: December 9, 2024.
Earthea Nance,
Regional Administrator, Region 6.

For the reasons stated in the preamble, the EPA amends chapter I, title 40 of the Code of Federal Regulations as follows:

PART 52—APPROVAL AND PROMULGATION OF IMPLEMENTATION PLANS

1. The authority citation for part 52 continues to read as follows:

Authority: 42 U.S.C. 7401, et seq.

Subpart T—Louisiana

2. Amend § 52.978 by adding paragraph (b) to read as follows:

§ 52.978 Control strategy and regulations: Sulfur Dioxide.

* * * * *

(b) Determination of failure to attain. Effective January 15, 2025, the EPA has determined that the Evangeline Parish nonattainment area failed to attain the 2010 1-hour primary sulfur dioxide (SO2) national ambient air quality standard (NAAQS) by the applicable statutory attainment date of April 9, 2023. This determination triggers the requirements of CAA section 179(d) for the State of Louisiana to submit a revision to the Louisiana SIP for the Evangeline Parish nonattainment area to the EPA December 16, 2024. The SIP revision must, among other elements, provide for attainment of the 1-hour primary SO2 NAAQS in the Evangeline Parish SO2 nonattainment area as expeditiously as practicable but no later than December 16, 2029.

[FR Doc. 2024-29438 Filed 12-13-24; 8:45 am]

BILLING CODE 6560-50-P